DEPARTMENT OF HEALTH AND HUMAN SERVICES

Indian Health Service

Division of Nursing, Office of Public Health Nursing

Funding Opportunity Number: HHS-2008-IHS-PHN-0001.

Announcement Type: New.

Catalog of Federal Domestic Assistance Number(s): 93.933.

Key Dates:

Application Deadline Date: August 4, 2008.

Review Date: August 15, 2008.

Award Announcement: August 22, 2008.

Earliest Anticipated Start Date: August 29, 2008.

I. Funding Opportunity Description

The Indian Health Service (IHS) Division of Nursing, Office of Public Health Nursing (PHN) announces a new competitive grant application for community based model of PHN case management services. This program is authorized under the Snyder Act, 25 U.S.C. 13; Section 301(a), Public Health Service Act, as amended; and the Indian Health Care Improvement Act (IHCIA) 25 U.S.C. 1652. This program is described at 93.933 in the Catalog of Federal Domestic Assistance (CFDA).

The purpose of the program is to improve health outcomes of high risk patients through a community case management model that utilizes the PHN as case manager. Research indicates nursing case management is a cost effective way to maximize health outcomes. The PHN Model of community based case management utilizes roles and functions of PHN services of assessment, planning, coordinating services, communication and monitoring. The goals and outcomes of the PHN Case Management model are early detection, diagnosis, treatment and evaluation that will improve health outcomes in a cost effective manner. This model utilizes all prevention components of primary, secondary and tertiary prevention in the home with patient and family. The community based case management model addresses the scope of practice of PHN working with individuals and families in a population-based practice.

Health disparities are greater for American Indian/Alaska Native (AI/AN) communities than the general United States population. Infant mortality is greater in the AI/AN population than United States in general, suicide rates are greater, unintentional injuries are greater, and chronic disease is increasing. This project will focus on a PHN community based case management model. The project will be conducted in a phased approach, using the nursing process—assessment, planning, implementation, and evaluation.

First Phase: Assessment—Conduct a comprehensive community assessment. The Senior Nurse Consultant will recommend a community assessment tool and provide appropriate training to the grantees in the Fall of 2008. Include, if available, pertinent data from the various community assessments and local health status data of the community in the community assessment.

In addition, obtain input from key stake-holders such as, community members and healthcare administration and community health groups to determine the health care priorities. Develop plans for project sustainability.

The PHN case management model will develop case management services addressing the priority health issues identified from the community assessment. The PHN case management program will establish policies and procedures, best practice (BP) for services, and mechanisms for tracking outcomes using the recommended PHN community based case management tool to improve the health care status.

Second Phase: Planning—After the community assessment is completed and priorities for Public Health Nursing case management services are determined, planning the case management model project will begin. Obtain additional staff training needed for the community based case management model and additional training needed such as evidence based practice, motivational interviewing, and any other training that would be applicable to the health issues addressed in the case management model. Plan specific case management services such as admission criteria, caseload size, policies and procedures, and an evaluation plan to include data tracking for outcomes generated and feedback to key stakeholders. Develop program guidelines. Obtain approval from healthcare administration. Develop patient education materials and community education materials for the program.

Third Phase: Implementation—Case management program includes admission criteria, caseload size, and at risk population to receive this service with appropriate care standards. Patient caseload established. Monitor progress and make adjustments as needed. Track patient data outcomes. Continue to plan ongoing sustainability of program after award period ends.

Fourth Phase: Patient Satisfaction Surveys—Data evaluation obtained from key stakeholders. Evaluate program services from population served and obtain satisfaction surveys. Evaluate and revise if needed, review policy and procedures and education materials. Report back to key stake-holders progress of the project.

Each site will share program material with IHS Headquarters PHN program. This will be shared IHS-wide for replication of the project across IHS with credit given to the organization that developed the material. Poster presentation or oral presentation will be given at the National Combined Councils or IHS annual national nursing meeting.

The Senior Nurse Consultant for PHN will make one or two site visits to each site.

The program established must be sustainable after completion of the project.

II. Award Information

Type of Awards: Grant.

Estimated Funds Available: The total amount identified for fiscal year (FY) 2008 is $1,200,000. The awards are for 48 months in duration and the average award is $150,000 per year. Continuation awards under this announcement are subject to the availability of funds and satisfactory performance.

Anticipated Number of Awards: A total of eight awards will be made under this Program Announcement. One award will be made to an urban program and seven awards to Tribes and/or Tribal programs.

Project Period: 4 years (48 months).

Award Amount: $150,000 per year.

III. Eligibility Information

1. Eligible applicants, the AI/AN must be one of the following (please specify in the application which category applies to each applicant):

A. A Federally-recognized Indian Tribe, or

B. A Non-Profit Urban Indian Organization as defined by the IHCIA, 25 U.S.C. 1603(f), or

C. A Non-Profit Tribal organization as defined by the IHCIA, 25 U.S.C. 1603(e).

2. Supporting Documentation to Determine Eligibility:

A. Tribal Resolution—If the applicant is an Indian Tribe or Tribal organization, a resolution from the Tribal government of all Tribes to be served supporting the project must accompany the application submission. Applications by Tribal organizations will not require resolutions if the current Tribal resolutions under which they operate would encompass the proposed activities. In this instance, a copy of the current resolution must accompany the application. The list of Tribes to be served by the project in the proposal must match the set of appended resolutions. If a resolution from an appropriate representative of each Tribe to be served is not submitted, the application will be considered incomplete and will not be considered for review. No separate mailings of documents will be accepted for the proposal; all documents, Tribal resolutions, etc., must accompany the submission as one complete proposal.

B. Non-Profit applicants must submit proof of non-profit status. A current IRS tax exemption certificate or a copy of 501(c)3 form is required proof that must accompany all applications.

3. Cost Sharing or Matching—The PHN will not require matching funds or cost sharing.

4. Other Requirements

• If the application budget exceeds $150,000 per year, the application will not be considered for review.

• Each application must be accompanied by a Tribal Resolution or a 501(c)3. If applicant is unable to obtain an approved Tribal resolution by the application deadline, a letter explaining the steps taken to achieve one, and any barriers confronted should be explained. Urban centers should include a letter from their Board of Directors.

IV. Application and Submission Information

1. Applicant package HHS-2008-IHS-PHN-0001 may be found at http://www.grants.gov Web site. Please use CFDA number HHS-2008-IHS-PHN-0001 to search for the grant opportunity. Information regarding the electronic application process may be directed to Grants.gov Help Desk; 1-800-518-4726. If the applicant is unable to resolve issues, applicant should contact Michelle Bulls at 301-443-6290.

The entire application package and downloadable application instructions are available at http://www.grants.gov.

2. Content and Form of Application Submission:

• Be single spaced.

• Be typewritten.

• Have consecutively numbered pages.

• Use black type not smaller than 12 characters per one inch.

• Contain a narrative that does not exceed 15 typed pages that includes the other submission requirements below. The 15 page narrative does not include the work plan, standard forms, Tribal resolutions, table of contents, budget, budget justifications, narratives, and/or other appendix items.

Public Policy Requirements: All Federal-wide public policies apply to IHS grants with exception of the discrimination public policy.

3. Submission Dates and Times: Applications must be submitted electronically through Grants.gov by August 4, 2008, 6 p.m. Eastern Standard Time (EST). If technical challenges arise and the applicant is unable to successfully complete the electronic application process, the applicant should contact Grants Policy Staff (GPS) at 301-443-6290 at least fifteen days prior to the application deadline and describe the difficulties that your organization continues to experience. The grantee must obtain prior approval, in writing (e-mails are acceptable), allowing the paper submission. If submission of a paper application is requested and approved, the original and two copies may be sent to: Norma Jean Dunne, Division of Grants Operations (DGO), 801 Thompson Avenue, TMP 360, Rockville, MD 20852 by August 4, 2008 6:00 p.m. EST. Applications not submitted through Grants.gov or submitted in hard copy without an approved waiver will be returned to the applicant without review or consideration. Late applications will not be accepted for processing, it will be returned to the applicant without further consideration.

4. Intergovernmental Review:Executive Order 12372 requiring intergovernmental review is not applicable to this program.

5. Funding Restrictions:

• Pre-award costs are allowable pending prior approval from the awarding agency. However, in accordance with 45 CFR part 74, all pre-award costs are incurred at the recipient's risk. The awarding office is under no obligation to reimburse such costs if for any reason the applicant does not receive an award or if the award to the recipient is less than anticipated.

• The available funds are inclusive of direct and appropriate indirect costs.

• Only one grant will be awarded per eligible applicant.

• IHS will not acknowledge receipt of applications.

6. Other Submission Requirements:If the applicant is unable to submit via Grants.gov and obtains a waiver from the standard application requirements please use the following forms: SF-424, 424A, 424B, and certification forms, as appropriate. One original and two copies must be submitted to: Attn: Norma Jean Dunne; Division of Grants Operations; 801 Thompson Avenue, TMP 360, Rockville, MD 20852. Applications are due on August 4, 2008 prior to 6 p.m. EST.

Electronic Submission—the preferred method for receipt of applications is electronic submission through Grants.gov. However, should any technical challenges arise regarding the submission, please contact Grants.gov Customer Support at 1-800-518-4726 or support@grants.gov. The Contact Center hours of operation are Monday-Friday from 7 a.m. to 9 p.m. EST. The applicant must seek assistance at least fifteen days prior to the application deadline. Applicants that do not adhere to the timelines for Central Contractor Registry (CCR) and/or Grants.gov registration and/or requesting timely assistance with technical issues will not be a candidate for paper applications.

To submit an application electronically, please use the http://www.Grants.gov Web site and select “Apply for Grants” link on the home page. Download a copy of the application package, on the Grants.gov Web site, complete it offline and then upload and submit the application via the Grants.gov site.

You may not e-mail an electronic copy of a grant application to IHS.

Please be reminded of the following:

• Under the new IHS application submission requirements, paper applications are not the preferred method. However, if you have technical problems submitting your application on-line, please contact directly Grants.gov Customer Support at: http://www.grants.gov/CustomerSupport.

• Upon contacting grants.gov, obtain a tracking number as proof of contact. The tracking number is helpful if there are technical issues that cannot be resolved and a waiver request from GPS must be obtained.

• If it is determined that a formal waiver is necessary, the applicant must submit a request, in writing (e-mails are acceptable), to Michelle.Bulls@ihs.gov that includes a justification for the need to deviate from the standard electronic submission process. Upon receipt of approval, a hard-copy application package must be downloaded by the applicant from Grants.gov, completed, and sent directly to the Division of Grants Operations, 801 Thompson Avenue, TMP 360, Rockville, MD 20852 by August 4, 2008 6 p.m. EST.

• Upon entering the Grants.gov Web site, there is information available that outlines the requirements to the applicant regarding electronic submission of an application through Grants.gov, as well as the hours of operation. We strongly encourage all applicants not to wait until the deadline date to begin the application process through Grants.gov as the registration process for CCR and Grants.gov could take up to fifteen working days.

• To use Grants.gov, you, as the applicant, must have a Data Universal Numbering System (DUNS) number and register in the CCR. You should allow a minimum of ten working days to complete CCR registration. See below on how to apply.

• You must submit all documents electronically, including all information typically included on the SF-424 and all necessary assurances and certifications.

• Please use the optional attachment feature in Grants.gov to attach additional documentation that may be requested by IHS.

• Your application must comply with any page limitation requirements described in the program announcement.

• After you electronically submit your application, you will receive an automatic acknowledgment from Grants.gov that contains a Grants.gov tracking number. The IHS DGO will download your application from Grants.gov and provide necessary copies to the cognizant program office. The DGO will not notify applicants that the application has been received.

• You may access the electronic application for this program on http://www.Grants.gov.

• You may search for the downloadable application package by either the CFDA 93.933 number or the Funding Opportunity Number (FON) HHS-2008-IHS-PHN-0001.

• The applicant must provide FON HHS-2008-IHS-PHN-0001.

E-mail applications will not be accepted under this announcement.

DUNS Number

Applicants are required to have a DUNS number to apply for a grant from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number.

Registration with the CCR is free of charge. Applicants may register by calling 1-888-227-2423. Please review and complete the CCR Registration Worksheet located on http://www.grants.gov/CCRRegister.

More detailed information regarding these registration processes can be found at http://www.grants.gov.

V. Application Review Information

1. Criteria

The instructions for preparing the application narrative also constitute the evaluation criteria for reviewing and scoring the application. Weights assigned to each section are noted in parentheses. The narrative should include four years of activities. The narrative section should be written in a manner that is clear to outside reviewers unfamiliar with prior related activities of the applicant. It should be well organized, succinct, and contain all information necessary for reviewers to understand the project fully.

a. Format—maximum of 15 pages (5 Points).

• Be single spaced.

• Be typewritten.

• Have consecutively numbered pages.

• Use black type not smaller than 12 characters per one inch.

• The narrative should not exceed 15 typed pages that include the other submission requirements below. The 15 page narrative does not include the work plan, standard forms, Tribal resolutions (if necessary), or organization's letter of support, proof of Non-Profit status, table of contents, budget, budget justifications, narratives, and/or other appendix items.

b. Background/Problem Statement (5 Points).

• Provide demographic information, prevalence rates of disease, and baseline health data to substantiate the proposal.

• Describe how data collection will support the stated project objectives and how it will support the project evaluation in order to determine the impact of the project. Address how the proposed project will result in health improvements.

• Name of facility, location, type of site (Direct Care, Tribal or urban).

• Contact person and phone number, address, e-mail address, and fax number.

c. Goals and Objectives (25 Points).

• Establish two to three measurable objectives within a plan that will provide significant outcome. Goals/Objectives should be specific with a realistic time line.

d. Methodology/Activities (20 Points).

• Describe the activities that will be implemented in a work plan to meet the objectives. The work plan should be directly related to the objectives.

• Describe how you will monitor the objectives (chart reviews, survey, etc.).

• Describe any collaborative efforts with programs outside of PHN.

e. Budget (15 Points).

• Discuss all expected expenses for each project year, one through four.

• Provide a justification of the funds for each project year, one through four.

• Provide a succinct description of specific roles and activities of each person involved in the proposed project and their ability to perform in that capacity.

f. Evaluation (30 Points).

Describe the methods for evaluating the project activities. Each proposed project objective should have an evaluation component and the evaluation activities should appear on the work plan. At a minimum, projects should describe plans to collect or summarize evaluation information about all project activities. Please address the following for each of the proposed objectives:

• Describe the community assessment tool that will be reviewed and what data will be selected to evaluate the success of the objective(s)?

• How the data will be collected to assess the program's objective(s) (e.g., methods used such as, but not limited to, community focus groups, surveys, interviews, or other data collection activities)?

• When the data will be collected and the data analysis completed?

• The extent to which there are specific data sets, data bases or registries already in place to measure/monitor meeting objective.

• Who will collect the data and any cost of the evaluation (whether internal or external)?

• Where and to whom the data will be presented, key stake holders?

• Address anticipated obstacles to the success of the proposal such as underlying causes and the nature of their influence on accomplishing the objectives.

• Describe how the community assessment will be evaluated.

• Describe the process that will be used to follow-up on the PHN Case Management Project findings/conclusions.

When the applicant is approved for funding, the award recipient must comply with the proposal or provisions may result in withholding of support of other eligible projects.

2. Review and Selection Process

a. The review committee will review each proposal according to this program announcement and undertake an in-depth evaluation based on the reviewer's findings, recommendations, scoring, and approval or disapproval. The final selection determination will be made by the PHN Nurse Consultant.

b. All applications meeting the proposal requirements will be scored.

c. The final score will be ranked by totaling the numerical scores and dividing by the number of reviewers which will be read into the record.

d. Each reviewer will use the score sheet when evaluating proposals, a signature and date will complete the evaluation record which will be returned to the committee chairperson.

e. The review committee may provide differing scores to the chairperson for discussion, resolution, and committee consensus.

f. The review will be conducted in accordance with the IHS Objective Review Guidelines. The applications will be evaluated and rated on the basis of the evaluation criteria.

g. An Executive Summary will be used to provide advice to the program officials in making award decisions and comments to applicants.

• The review committee chairperson will compile an Executive Summary of the review, findings, recommendation, and comments of the project type, and proposal scores.

• The reviewer's written evaluation will be used by the selecting official.

3. Anticipated Announcement and Award Dates

Anticipated Announcement date is August 22, 2008 and Award Date is August 29, 2008.

VI. Award Administration Information

1. Award Notices

The Notice of Award (NoA) will be initiated by the DGO and will be mailed via postal mail to each entity that is approved for funding under this announcement. The NoA will be signed by the Grants Management Officer, and this is the authorizing document for which funds are dispersed to the approved entities. The NoA will serve as the official notification of the grant award and will reflect the amount of Federal funds awarded, the purpose of the grant, the terms and conditions of the award, the effective date of the award, and the budget and project periods. The NoA is the legally binding document. Applicants who are approved but unfunded or disapproved based on their Objective Review score will receive a copy of the Executive Summary which identifies the weaknesses and strengths of the application submitted.

2. Administrative Requirements.

Grants are administrated in accordance with the following documents:

• This Program Announcement.

• Administrative Requirements: 45 CFR Part 92, “Uniform Administrative Requirements for Grants and Cooperative Agreements to State, Local and Tribal Governments,” or 45 CFR Part 74, “Uniform Administrative Requirements for Awards to Institutions of Higher Education, Hospitals, Other Non-Profit Organizations, and Commercial Organizations.”

• Grants Policy Guidance: HHS Grants Policy Statement, January 2007.

• Cost Principles: OMB Circular A-87, “State, Local, and Indian” (Title 2 Part 225).

• Cost Principles: OMB Circular A-122, “Non-Profit Organizations” (Title 2 Part 230).

• Audit Requirements: OMB Circular A-133, “Audits of States, Local Governments, and Non-profit Organizations.”

3. Indirect Costs: This section applies to all grant recipients that request reimbursement of indirect costs in their grant application. In accordance with HHS Grants Policy Statement, Part II-27, IHS requires applicants to have a current indirect cost rate agreement in place prior to award. The rate agreement must be prepared in accordance with the applicable cost principles and guidance as provided by the cognizant agency or office. A current rate means the rate covering the applicable activities and the award budget period. If the current rate is not on file with the DGO at the time of award, the indirect cost portion of the budget will be restricted and not available to the recipient until the current rate is provided to the DGO.

Generally, indirect costs rates for IHS grantees are negotiated with the Division of Cost Allocation http://rates.psc.gov/ and the Department of Interior, National Business Center at http://www.nbc.gov/acquisition/ics/icshome.html Web site. If your organization has questions regarding the indirect cost policy, please contact the DGO at (301) 443-5204.

4. Reporting

A. Progress Report. Program progress reports are required semi-annually. These reports will include a brief comparison of actual accomplishments to the goals established for the period, or, if applicable, provide sound justification for the lack of progress, and other pertinent information as required. A final report must be submitted within 90 days of expiration of the budget/project period.

B. Financial Status Report. Semi-annual financial status reports must be submitted within 30 days of the end of the half year. Final financial status reports are due within 90 days of expiration of the budget/project period. Standard Form 269 (long form) will be used for financial reporting.

Grantees are responsible and accountable for accurate reporting of the Progress Reports and Financial Status Reports which are generally due semi-annually and the final reports, Financial Status Report (SF-269) and Program Progress Report are due 90 days after each budget period. The grantee must verify how the value was derived and submit reports according to the terms and conditions of the award.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

5. Telecommunication for the hearing impaired is available at: TTY (301) 443-6394.

VII. Agency Contacts

For program-related information regarding the community based model of PHN case management services: Cheryl Peterson, R.N., Project Official, Indian Health Service, 801 Thompson Avenue, Suite 329, Rockville, Maryland 20852, (301) 443-1840, Cheryl.Peterson@ihs.gov.

For general information regarding this announcement: Ms. Orie Platero, Office Clinical and Preventive Services, Indian Health Service, 801 Thompson Avenue, Suite 326, Rockville, Maryland 20852, (301) 443-2522, Fax: (301) 594-6213.

For specific grant-related and business management information: Ms. Norma Jean Dunne, Division of Grant Operations, Indian Health Service, 801 Thompson Avenue, TMP 360-79, Rockville, Maryland 20852, (301) 443-5204, Fax: (301) 443-9602.

VIII. Other Information

The Department of Health and Human Services (HHS) is committed to achieving the health promotion and disease prevention objectives of Healthy People 2010, a HHS-led activity for setting priority areas. This project will aid the accomplishment of Healthy People 2010 Focus Area 1—Access. Potential applicants may obtain a printed copy of Healthy People 2010, (Summary Report No, 017-001-00549-5) or CD-ROM, Stock No. 017-001-00549-5, through the Superintendent of Documents, Government Printing Office, P.O. Box 371954, Pittsburgh, PA 15250-7945, (202) 512-1800. You may also access this information at the following Web site: http://www.healthypeople.gov/Publications.

The IHS is focusing efforts on three Health Initiatives that, linked together, have the potential to achieve positive improvements in the health of AI/AN people. These three initiatives are Health Promotion/Disease Prevention, Management of Chronic Disease, and Behavioral Health. Further information is available at the Health Initiatives Web site: http://www.ihs.gov/NonMedicalPrograms/DirInitiatives/index.cfm.

Dated: June 27, 2008.
Robert G. McSwain,
Director, Indian Health Service.

[FR Doc. E8-15773 Filed 7-9-08; 8:45 am]

BILLING CODE 4165-16-P